DEPARTMENT OF COMMERCE

International Trade Administration

[Application No. 94-4A007]

Export Trade Certificate of Review

ACTION: Notice of issuance of an amended export trade certificate of review to Florida Citrus Exports L.C. (“FCE”) (Application #94-4A007).

SUMMARY: The U.S. Department of Commerce issued an amended Export Trade Certificate of Review to Florida Citrus Exports L.C. on October 13, 2010. The Certificate has now been amended nine times. The previous amendment was issued to FCE on May 8, 2000, and a notice of its issuance was published in the Federal Register on May 12, 2000 (65 FR 30564). The original Certificate for FCE was issued on February 23, 1995, and a notice of its issuance was published in the Federal Register on May 8, 1995 (60 FR 12735).

FOR FURTHER INFORMATION CONTACT: Joseph E. Flynn, Director, Office of Competition and Economic Analysis, International Trade Administration, by telephone at (202) 482-5131 (this is not a toll-free number) or e-mail at etca@trade.gov.

SUPPLEMENTARY INFORMATION: Title III of the Export Trading Company Act of 1982 (15 U.S.C. 4001-21) authorizes the Secretary of Commerce to issue Export Trade Certificates of Review. The regulations implementing Title III are found at 15 CFR part 325 (2010).

The Office of Competition and Economic Analysis (“OCEA”) is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

FCE's Export Trade Certificate of Review has been amended to:

1. Add the following new Members of the Certificate within the meaning of section 325.2(1) of the Regulations (15 CFR 325.2(1)): Riverfront Packing Co. LLC, Vero Beach, FL; and Indian River Exchange Packers, Inc., Vero Beach, FL.

2. Delete the following Members from FCE's Certificate: Dole Citrus, Vero Beach, FL; Harbor Island Citrus Inc., Vero Beach, FL; and Minton Sun, Inc. Ft. Pierce, FL.

Dated: October 18, 2010.
Joseph E. Flynn,
Director, Office of Competition and Economic Analysis.

[FR Doc. 2010-26663 Filed 10-22-10; 8:45 am]

BILLING CODE 3510-DR-P